DEPARTMENT OF HEALTH AND HUMAN SERVICES

Administration for Children and Families

Submission for OMB Review; Comment Request

Title: Job Search Assistance (JSA) Strategies Evaluation.

OMB No.: New Collection.

Description: The Administration for Children and Families (ACF) is proposing an information collection activity as part of the Job Search Assistance (JSA) Strategies Evaluation. The proposed information collection consists of semi-structured interviews with key respondents involved with job search assistance programs in states and localities. Through this information collection and other study activities, ACF seeks to identify the types of job search assistance strategies that should be tested within the context of current TANF policies and requirements.

Respondents: State and local TANF administrators, program staff, and stakeholders such as researchers and policy experts.

Annual Burden Estimates
Instrument | Total number of respondents | Annual number of respondents | Number of responses per respondent | Average burden hours per response | Annual burden hours
Discussion Guide for Use with Researchers and Policy Experts | 15 | 8 | 1 | 1 | 8
Discussion Guide for use with State and Local TANF Administrators | 35 | 18 | 1 | 2.5 | 45
Discussion Guide for Use with Program Staff | 50 | 25 | 1 | 2 | 50

Estimated Total Annual Burden Hours: 103.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Reports Clearance Officer.

[FR Doc. 2013-19929 Filed 8-15-13; 8:45 am]

BILLING CODE 4184-09-P